DEPARTMENT OF AGRICULTURE

Food and Nutrition Service

Agency Information Collection Activities: Proposed Collection; Comment Request—Information Collection for the Special Milk Program for Children

AGENCY: Food and Nutrition Service, USDA.

ACTION: Notice.

SUMMARY: In accordance with the Paperwork Reduction Act of 1995, the Food and Nutrition Service invites the general public and other public agencies to comment on proposed information collections. The proposed collection is an extension of a currently approved collection for the Special Milk Program for Children.

DATES: Comments on this notice must be received or postmarked by October 24, 2008.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of collection of information on those who are to respond, including through the use of appropriate automated, electronic, mechanical or other technological collection techniques or other forms of information technology.

Comments may be sent to: Ms. Cynthia Long, Director, Child Nutrition Division, Food and Nutrition Service, USDA, 3101 Park Center Drive, Room 638, Alexandria, Virginia 22302. Comments will also be accepted through the Federal eRulemaking Portal. Go to http://www.regulations.gov, and follow the online instructions for submitting comments electronically.

All written comment(s) will be open for public inspection at the office of the Food and Nutrition Service during regular business hours (8:30 a.m. to 5 p.m., Monday through Friday) at 3101 Park Center Drive, Room 640, Alexandria, Virginia 22302.

All responses to this Notice will be summarized and included in the request for OMB approval, and will become a matter of public record.

FOR FURTHER INFORMATION CONTACT: Requests for additional information or copies of this information collection should be directed to: Ms. Cynthia Long at the address above or telephone at (703) 305-2590.

SUPPLEMENTARY INFORMATION: Title: Special Milk Program.

OMB Number: 0584-0005.

Expiration Date: March 31, 2009.

Type of Request: Extension of a currently approved collection.

Abstract: Section 3 of the Child Nutrition Act (CNA) of 1966, (42 U.S.C. 1772) authorizes the Special Milk Program (SMP). It provides for the appropriation of such sums as may be necessary to enable the Secretary of Agriculture to encourage the consumption of fluid milk by children in the United States in (1) nonprofit schools of high school grade and under, and (2) nonprofit nursery schools, child care centers, settlement houses, summer camps, and similar nonprofit institutions devoted to the care and training of children, which do not participate in a food service program authorized under the CNA or the National School Lunch Act.

Section 10 of the CNA (42 U.S.C. 1779) requires the Secretary of Agriculture to prescribe such regulations as deemed necessary to carry out this Act and the National School Lunch Act. Pursuant to that provision, the Secretary has issued 7 CFR Part 215, which sets forth policies and procedures for the administration and operation of the SMP. State and local operators of the SMP are required to meet Federal reporting and accountability requirements. The vast majority of reporting relates to information regarding eligibility determinations of the children, the number of milk servings, and revenues received from milk sales. State and local operators are also required to maintain records regarding eligibility to operate the program, review results, and accounts of revenues and expenditures.

Affected Public: 55 State agencies, 4,150 School food authorities/Sponsors, 4,910 schools, 533 child care institutions and 853 camps.

Estimated Number of Respondents: 10,501.

Estimated Number of Responses per Respondent: 14.

Estimated Total Annual Responses: 147,014.

Estimated Time per Response: .29.

Estimated Total Reporting Annual Burden hours: 42,634.06.

Number of Recordkeepers: 10,501.

Estimated Number of Responses per Respondent: 39.

Estimated Total Annual Responses: 409,539.

Estimated Time per Response: .17.

Estimated Total Annual Recordkeeping Burden Hours: 69,621.63.

Total Request Annual Reporting and Recordkeeping Burden Hours: 112,255.69.

Dated: August 12, 2008.
Roberto Salazar,
Administrator, Food and Nutrition Service.

[FR Doc. E8-19668 Filed 8-22-08; 8:45 am]

BILLING CODE 3410-30-P